ENVIRONMENTAL PROTECTION AGENCY

[FRL-7390-1]

Agency Information Collection Activities: Submission for OMB Review; Comment Request, NSPS for Municipal Solid Waste Landfills

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: NSPS for Municipal Solid Waste Landfills, 40 CFR part 60, subpart WWW, OMB Control No. 2060-0220, expiration date September 30, 2002. The ICR describes the nature of the information collection and its expected burden and cost; where appropriate, it includes the actual data collection instrument.

DATES: Comments must be submitted on or before November 4, 2002.

ADDRESSES: Send comments, referencing EPA ICR No. 1557.05 and OMB Control No. 2060-0220, to the following addresses: Susan Auby, U.S. Environmental Protection Agency, Collection Strategies Division (Mail Code 2822T), 1200 Pennsylvania Avenue, NW., Washington, DC 20460-0001; and to Office of Information and Regulatory Affairs, Office of Management and Budget (OMB), Attention: Desk Officer for EPA, 725 17th Street, NW., Washington, DC 20503.

FOR FURTHER INFORMATION: For a copy of the ICR, contact Susan Auby at EPA by phone at (202) 566-1672, by email at auby.susan@epamail.epa.gov, or download off the Internet at http://www.epa.gov/icr and refer to EPA ICR Number 1557.05. For technical questions about the ICR contact, Sharie Centilla, (202) 564-0697.

SUPPLEMENTARY INFORMATION: Title: NSPS for Municipal Solid Waste Landfills, 40 CFR part 60, subpart WWW. (OMB Control No. 2060-0220; EPA ICR Number 1557.05) expiring September 30, 2002. This is a request for extension of a currently approved collection.

Abstract: The Standards of Performance for Municipal Solid Waste Landfills; 40 CFR part 60, subpart WWW, were promulgated on March 12, 1996. These standards apply to municipal solid waste landfills for which construction, modification or reconstruction commences on or after May 30, 1991. The rule requires the installation of properly designed emission control equipment, and the proper operation and maintenance of this equipment. These standards rely on the capture and reduction of methane, carbon dioxide, and nonmethane organic gas compound emissions by combustion devices (boilers, internal combustion engines, or flares).

Owners and operators of the affected facilities described must make initial reports when a source becomes subject, conduct and report on performance tests, report of annual or periodic emission rates, report on design plans, report on equipment removal and closure, as well as maintain records of the reports, system design and performance tests, monitoring and exceedances, plot map, and well locations.

Any owner or operator subject to the provisions of this part must maintain a file of the applicable reporting and recordkeeping requirements for at least five years following the collection of such measurements, maintenance reports, and records. All reports are sent to the delegated state or local authority.

An agency may not conduct or sponsor, and a person is not required to respond to, a collection of information unless it displays a currently valid OMB Control Number. The OMB control numbers for EPA's regulations are listed in 40 CFR part 9 and 48 CFR Chapter 15. The Federal Register document required under 5 CFR 1320.8(d), soliciting comments on this collection of information was published on January 30, 2002 at 67 FR 4421. No comments were received on the notice.

Burden Statement: The annual public reporting and recordkeeping burden for this collection of information is estimated to average 11 hours per response. Burden means the total time, effort, or financial resources expended by persons to: generate, maintain, retain, disclose, or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners and/or operators of municipal solid waste landfills.

Estimated Number of Respondents: 175.

Frequency of Response: On occasion, Quarterly, and Annually.

Estimated Total Annual Hour Burden: 3390 hours.

Estimated Total Annualized Capital, O&M Cost Burden: $107,000.

Send comments on the Agency's need for this information, the accuracy of the provided burden estimates, and any suggested methods for minimizing respondent burden, including through the use of automated collection techniques to the previous addresses. Please refer to EPA ICR No.1557.05 and OMB Control No. 2060-0220 in any correspondence.

Dated: September 25, 2002.
Oscar Morales,
Director, Collection Strategies Division.

[FR Doc. 02-25156 Filed 10-2-02; 8:45 am]

BILLING CODE 6560-50-P